DEPARTMENT OF THE INTERIOR

Bureau of Land Management

[LLWY-957000-17-L13100000-PP0000]

Filing of Plats of Survey, Wyoming

AGENCY: Bureau of Land Management, Interior.

ACTION: Notice of official filing.

SUMMARY: The Bureau of Land Management (BLM) is scheduled to file plats of survey and remonumentation 30 calendar days from the date of this publication in the BLM Wyoming State Office, Cheyenne, Wyoming. The surveys, which were executed at the request of the BLM, are necessary for the management of these lands.

DATES: Protests must be received by the BLM by July 28, 2017.

ADDRESSES: You may submit written protests to the Wyoming State Director at WY957, Bureau of Land Management, 5353 Yellowstone Road, Cheyenne, Wyoming 82003.

FOR FURTHER INFORMATION CONTACT: Sonja Sparks, BLM Wyoming Cadastral Surveyor at 307-775-6222 or s75spark@blm.gov. Persons who use a telecommunications device for the deaf may call the Federal Relay Service at 1-800-877-8339 to contact this office during normal business hours. The Service is available 24 hours a day, 7 days a week, to leave a message or question with this office. You will receive a reply during normal business hours.

SUPPLEMENTARY INFORMATION: The lands surveyed are: The plat representing the entire record of the remonumentation of certain corners, Township 23 North, Range 103 West, Sixth Principal Meridian, Wyoming, Group No. 850, was accepted March 21, 2017.

The plat and field notes representing the dependent resurvey of portions of the sub divisional lines and the survey of the subdivision of section 21, Township 23 North, Range 103 West, Sixth Principal Meridian, Wyoming, Group No. 889, was accepted March 21, 2017.

The plat and field notes representing the dependent resurvey of a portion of the west boundary and a portion of the sub divisional lines, and the survey of the subdivision of section 19, Township 23 North, Range 103 West, Sixth Principal Meridian, Wyoming, Group No. 948, was accepted March 21, 2017.

The plat and field notes representing the dependent resurvey of a portion of the south boundary and a portion of the sub divisional lines, and the survey of the subdivision of section 32, Township 23 North, Range 117 West, Sixth Principal Meridian, Wyoming, Group No. 947, was accepted March 21, 2017.

The plat and field notes representing the dependent resurvey of a portion of the sub divisional lines and the survey of the subdivision of section 11, Township 23 North, Range 118 West, Sixth Principal Meridian, Wyoming, Group No. 947, was accepted March 21, 2017.

The plat and field notes representing the dependent resurvey of a portion of the sub divisional lines, and the survey of the subdivision of section 27, Township 24 North, Range 118 West, Sixth Principal Meridian, Wyoming, Group No. 947, was accepted March 21, 2017.

A person or party who wishes to protest one or more plats of survey identified above must file a written notice of protest with the Wyoming State Director. The notice of protest must identify the plat(s) of survey that the person or party wishes to protest. The notice of protest must be filed before the scheduled date of official filing for the plat(s) of survey being protested. Any notice of protest filed after the scheduled date of official filing will be untimely and will not be considered. A notice of protest is considered filed on the date it is received by the State Director during regular business hours; if received after regular business hours, a notice of protest will be considered filed the next business day. A written statement of reasons in support of a protest, if not filed with the notice of protest, must be filed with the State Director within 30 calendar days after the notice of protest is filed. If a notice of protest against a plat of survey is received prior to the scheduled date of official filing, the official filing of the plat of survey identified in the notice of protest will be stayed pending consideration of the protest. A plat of survey will not be officially filed until the next business day following dismissal or resolution of all protests of the plat.

Before including your address, phone number, email address, or other personal identifying information in your protest, you should be aware that your entire protest—including your personal identifying information—may be made publicly available at any time. While you can ask us to withhold your personal identifying information from public review, we cannot guarantee that we will be able to do so.

Copies of the preceding described plats and field notes are available to the public at a cost of $4.20 per plat and $.13 per page of field notes.

Authority: 43 U.S.C. Ch. 3.

John P. Lee,
Chief Cadastral Surveyor, Division of Support Services.

[FR Doc. 2017-13540 Filed 6-27-17; 8:45 am]

BILLING CODE 4310-22-P